DEPARTMENT OF THE INTERIOR

Fish and Wildlife Service

Aquatic Nuisance Species Task Force—Meeting of the Mid-Atlantic Regional Panel

AGENCY: Fish and Wildlife Service, Interior.

ACTION: Notice of meeting.

SUMMARY: This notice announces a meeting of the Aquatic Nuisance Species (ANS) Task Force Mid-Atlantic Regional Panel. The meeting is open to the public. The meeting topics are identified in the SUPPLEMENTARY INFORMATION section.

DATES: The Mid-Atlantic Regional Panel will meet from 9 a.m. to 5 p.m. on Wednesday, September 7, 2005, and 9 a.m. to 12:45 p.m. on Thursday, September 8, 2005.

ADDRESSES: The Mid-Atlantic Regional Panel meeting will be held at Cacapon State Park, 818 Cacapon Lodge Drive, Berkeley Springs, WV 25411; (304) 258-1022. Minutes of the meeting will be maintained in the office of Division of Environmental Quality, Chief, Branch of Invasive Species, U.S. Fish and Wildlife Service, Suite 322, 4401 North Fairfax Drive, Arlington, Virginia 22203-1622, and will be made available for public inspection during regular business hours, Monday through Friday.

FOR FURTHER INFORMATION CONTACT: Julie Thompson, Mid-Atlantic Regional Panel Coordinator, 410-573-4517, Julie_Thompson@fws.gov.

SUPPLEMENTARY INFORMATION: Pursuant to section 10(a)(2) of the Federal Advisory Committee Act (5 U.S.C. App.), this notice announces a meeting of the ANS Task Force Mid-Atlantic Regional Panel. The ANS Task Force was established by the Nonindigenous Aquatic Nuisance Prevention and Control Act of 1990. The Mid-Atlantic Regional Panel was established by the ANS Task Force in 2003 and includes eight Mid-Atlantic States (Delaware, Maryland, North Carolina, New Jersey, New York, Pennsylvania, Virginia, and West Virginia) and the District of Columbia. The Regional Panel is comprised of representatives from Federal, State, and local agencies, as well as from private environmental and commercial interests, and performs the following activities:

a. Identifies priorities for activities in the Mid-Atlantic region,

b. Develops and submits recommendations to the national Aquatic Nuisance Species Task Force,

c. Coordinates aquatic nuisance species program activities in the Mid-Atlantic region,

d. Advises public and private interests on control efforts, and

e. Submits an annual report to the Aquatic Nuisance Species Task Force.

Topics to be addressed at this meeting include: Regional Panel business (standard operating procedures and membership), international ballast water standards, a spotlight on the northern snakehead (Channa argus), development and implementation of an ANSTF management plan, status of ANS management plans in the Mid-Atlantic Region, updates on ANS Task Force activities and the National Aquatic Invasive Species Act, and concurrent workgroup sessions to discuss potential projects.

Dated: August 17, 2005.
Frank DeLuise,
Acting Co-Chair, Aquatic Nuisance Species Task Force, Acting Assistant Director—Fisheries & Habitat Conservation.

[FR Doc. 05-17328 Filed 8-30-05; 8:45 am]

BILLING CODE 4310-55-P